DEPARTMENT OF TRANSPORTATION

Federal Highway Administration

23 CFR Part 658

[FHWA Docket No. FHWA-2018-0035]

RIN 2125-AF81

Truck Size and Weight

AGENCY: Federal Highway Administration (FHWA), U. S. Department of Transportation (DOT).

ACTION: Final rule; technical correction.

SUMMARY: This rule makes a technical correction to the regulations that govern Longer Combination Vehicles (LCV) for the Commonwealth of Pennsylvania and the State of Ohio. The amendments contained herein make no substantive changes to FHWA regulations, policies, or procedures.

DATES: This rule is effective November 1, 2018.

FOR FURTHER INFORMATION CONTACT: John Berg, Truck Size and Weight Program Manager, Office of Freight Management and Operations, (202) 740-4602; or William Winne, Office of the Chief Counsel, (202) 366-1397. Both are located at 1200 New Jersey Avenue SE, Washington, DC 20590. Office hours for FHWA are from 8:00 a.m. to 4:30 p.m., e.t., Monday through Friday, except Federal holidays.

SUPPLEMENTARY INFORMATION:

Electronic Access

An electronic copy of this document may be downloaded by accessing the Office of the Federal Register's home page at: http://www.archives.gov or the Government Publishing Office's web page at: http://www.gpoaccess.gov/nara.

Background

This rulemaking makes technical corrections to the regulations in appendix C of 23 CFR part 658 that govern length and weight of trailers in Pennsylvania and Ohio. The regulations on LCV's were frozen as of July 1, 1991, in accordance with Section 1023 of the Intermodal Surface Transportation Efficiency Act (ISTEA).¹

¹ Public Law 105-240, 105 Stat. 1914, 1951 (Dec. 18, 1991) (codified at 23 U.S.C. 127(d)).

A procedure to “review and correct” the accuracy of the list mandated in 23 U.S.C. 127(d)(3)(D) is provided under 23 U.S.C. 127(d)(3)(E), and implemented under 23 CFR 658.23(f). This provision requires the FHWA Administrator to review petitions to correct any errors in Appendix C. The Commonwealth of Pennsylvania and State of Ohio have petitioned the Federal Highway Administrator to make corrections to items they found to be incorrect in accordance with 23 CFR 658.23(f), and certified those provisions were in effect as of July 1, 1991.

The Pennsylvania Department of Transportation petitioned FHWA seeking to invoke the “grandfather” provisions of 23 U.S.C. 127(a)(4) to allow the operation on the Pennsylvania Turnpike of vehicles or loads with weight limitations exceeding the Federal maximums mandated in 23 U.S.C. 127(a). Pennsylvania's claim to grandfather rights is based on State statute or enforceable regulation authorizing weight limitations exceeding the Federal maximum in existence on or before July 1, 1956. The Commonwealth seeks to correct a reporting mistake under 23 U.S.C. 127(d)(3)(A) regarding the actual lawful operation on the Turnpike of LCVs up to 100,000 pounds and no longer than 28 ½ feet for each trailer on or before, June 1, 1991. These provisions will be added to Appendix C and bring it into conformance with the Pennsylvania statutes of that time.

The Ohio Department of Transportation (ODOT) petitioned FHWA seeking to invoke the “grandfather” provisions of 23 U.S.C. 127(a)(4) to reflect that triple-trailers can operate on any “turnpike project” as defined in Ohio Revised Code (ORC) section 5537.01 and permitted by the Ohio Turnpike and Infrastructure Commission under the program authorized in ORC 5537.16 (The Ohio Turnpike Act of 1949 and as amended and effective prior to June 1, 1991). In addition, under ORC 4513.34, ODOT and local authorities are authorized to issue special permits for oversized vehicles (effective prior to June 1, 1991). These provisions will be added to Appendix C and bring it into conformance with the Ohio's statutes of that time.

Rulemaking Analyses and Notice

Under the Administrative Procedure Act (5 U.S.C. 553(b)), an agency may waive the normal notice and comment requirements if it finds, for good cause, that they are impracticable, unnecessary, or contrary to the public interest. The FHWA finds that notice and comment for this rule is unnecessary and contrary to the public interest because it will have no substantive impact and is technical in nature. The amendments to the rule are based upon the explicit language of statutes that were enacted subsequent to the promulgation of the rule. The FHWA does not anticipate receiving meaningful comments. States, local governments, motor carriers, and other transportation stakeholders rely upon the regulations corrected by this action. These corrections will reduce confusion for these entities and should not be unnecessarily delayed. Accordingly, for the reasons listed above, the agencies find good cause under 5 U.S.C. 553(b)(3)(B) to waive notice and opportunity for comment.

Executive Order 12866 (Regulatory Planning and Review), Executive Order 13563 (Improving Regulation and Regulatory Review), Executive Order 13771 (Reducing Regulations and Controlling Regulatory Costs), and DOT Regulatory Policies and Procedures

The FHWA has determined that this action is not a significant regulatory action within the meaning of Executive Order (E.O.) 12866 or significant within the meaning of DOT regulatory policies and procedures. This action complies with E.O.s 12866 and 13563 to improve regulation. It is anticipated that the economic impact of this rulemaking will be minimal. This rule only makes minor corrections that will not in any way alter the regulatory effect of 23 CFR part 658. Thus, this final rule will not adversely affect, in a material way, any sector of the economy. In addition, these changes will not interfere with any action taken or planned by another agency and will not materially alter the budgetary impact of any entitlements, grants, user fees, or loan programs. This action complies with E.O.s 12866, 13563, and 13771 to improve regulation. This rule is not an Executive Order 13771 regulatory action because this rule is not significant under Executive Order 12866.

Regulatory Flexibility Act

In compliance with the Regulatory Flexibility Act (Pub. L. 96-354, 5 U.S.C. 601-612) FHWA has evaluated the effects of this action on small entities and has determined that the action will not have a significant economic impact on a substantial number of small entities. This final rule will not make any substantive changes to our regulations or in the way that our regulations affect small entities; it merely corrects technical errors. For this reason, FHWA certifies that this action will not have a significant economic impact on a substantial number of small entities.

Unfunded Mandates Reform Act of 1995

This rule does not impose unfunded mandates as defined by the Unfunded Mandates Reform Act of 1995 (Pub. L. 104-4, March 22, 1995, 109 Stat. 48). This rule does not impose any requirements on State, local, or Tribal governments, or the private sector and, thus, will not require those entities to expend any funds.

Executive Order 13132 (Federalism)

This action has been analyzed in accordance with the principles and criteria contained in E.O. 13132, and FHWA has determined that this action does not have sufficient federalism implications to warrant the preparation of a federalism assessment. The FHWA has also determined that this action does not preempt any State law or State regulation or affect the States' ability to discharge traditional State governmental functions.

Executive Order 12372 (Intergovernmental Review)

The regulations implementing E.O. 12372 regarding intergovernmental consultation on Federal programs and activities apply to these programs.

Paperwork Reduction Act

This action does not create any new information collection requirements for which a Paperwork Reduction Act submission to the Office of Management and Budget would be needed under the Paperwork Reduction Act of 1995, 44 U.S.C. 3501-3520.

National Environmental Policy Act

The FHWA has analyzed this action for the purpose of the National Environmental Policy Act of 1969 (42 U.S.C. 4321-4347) and has determined that this action will not have any effect on the quality of the environment.

Executive Order 13175 (Tribal Consultation)

The FHWA has analyzed this action under E.O. 13175, dated November 6, 2000, and concluded that this rule will not have substantial direct effects on one or more Indian Tribes; will not impose substantial direct compliance costs on Indian Tribal government; and will not preempt Tribal law. There are no requirements set forth in this rule that directly affect one or more Indian Tribes. Therefore, a Tribal summary impact statement is not required.

Executive Order 12988 (Civil Justice Reform)

This rule meets applicable standards in sections 3(a) and 3(b)(2) of E.O. 12988, Civil Justice Reform, to minimize litigation, eliminate ambiguity, and reduce burdens.

Executive Order 13045 (Protection of Children)

Under E.O. 13045, Protection of Children from Environmental Health and Safety Risks, this final rule is not economically significant and does not involve an environmental risk to health and safety that may disproportionally affect children.

Executive Order 12630 (Taking of Private Property)

This final rule will not effect a taking of private property or otherwise have taking implications under E.O. 12630, Governmental Actions and Interference with Constitutionally Protected Property Rights.

Executive Order 13211 (Energy Effects)

This final rule has been analyzed under E.O. 13211, Actions Concerning Regulations That Significantly Affect Energy Supply, Distribution, or Use. The FHWA has determined that it is not a significant energy action under that order because it is not a significant regulatory action under E.O. 12866 and this final rule is not likely to have a significant adverse effect on the supply, distribution, or use of energy.

Regulation Identification Number

A regulation identification number (RIN) is assigned to each regulatory action listed in the Unified Agenda of Federal Regulations. The Regulatory Information Service Center publishes the Unified Agenda in April and October of each year. The RIN contained in the heading of this document can be used to cross reference this action with the Unified Agenda.

List of Subjects in 23 CFR Part 658

Grant programs—transportation, Highways and roads, Motor carriers.

Issued on: September 24, 2018.
Brandye L. Hendrickson,
Deputy Administrator, Federal Highway Administration.

In consideration of the foregoing, 23 CFR part 658 is amended as set forth below.

PART 658—TRUCK SIZE AND WEIGHT, ROUTE DESIGNATIONS—LENGTH, WIDTH AND WEIGHT LIMITATIONS

1. The authority citation for part 658 continues to read as follows:

Authority: 23 U.S.C. 127 and 315; 49 U.S.C. 31111, 31112, and 31114; sec. 347, Pub. L. 108-7, 117 Stat. 419; sec. 756, Pub L. 109-59, 119 Stat. 1219; sec. 115, Pub. L. 109-115, 119 Stat. 2408; 49 CFR 1.48(b)(19) and (c)(19).

2. Amend appendix C to part 658 by:

a. Revising the entry for “State: Ohio, Combination: Truck tractor and 3 trailing units—LVC”; and

b. Adding an entry in alphabetical order for State: Pennsylvania, Combination: Truck tractor and 2 trailing units”.

The revision and addition read as follows:

Appendix C to Part 658—Trucks Over 80,000 Pounds on the Interstate System and Trucks Over STAA Lengths on the National Network

* * * * *

STATE: OHIO

COMBINATION: Truck tractor and 3 trailing units—LCV

LENGTH OF THE CARGO-CARRYING UNITS: 95 feet

MAXIMUM ALLOWABLE GROSS WEIGHT: 115,000 pounds

OPERATIONAL CONDITIONS: Same as the OH-TT2 combination, except as follows below, and triple trailer units may operate on any “turnpike project” as defined in Ohio Revised Code (ORC) section 5537.01 and permitted by the Ohio Turnpike and Infrastructure Commission under the program authorized in ORC 5537.16 (The Ohio Turnpike Act of 1949 and as amendedand effective prior to June 1, 1991).

WEIGHT: Gross weight for triples with an overall length greater than 90 feet but not over 105 feet in length = 115,000 pounds.

DRIVER: The driver must have a commercial driver's license with the appropriate endorsement, be over 26 years of age, in good health, and shall have not less than 5 years of experience driving double trailer combination units. Such driving experience shall include experience throughout the four seasons. Each driver must have special training on triple combinations to be provided by the Permittee.

VEHICLE: Triple trailer combination vehicles are allowed to operate on the Turnpike provided the combination vehicle is at least 90 feet long but less than 105 feet long and each trailer is not more than 28.5 feet in length. The minimum number of axles on the triple shall be seven and the maximum is nine.

PERMIT: A triple trailer permit to operate on the Turnpike is required for triple trailer combinations in excess of 90 feet in length. There is an annual fee for the permit. Class A and B explosives; Class A poisons; and Class 1, 2, and 3 radioactive material cannot be transported in triple trailer combinations. Other hazardous materials may be transported in two trailers of a triple. The hazardous materials should be placed in the front two trailers unless doing so will result in the third trailer weighing more than either one of the lead trailers. In addition, under ORC 4513 .34, ODOT and local authorities are authorized to issue special permits for oversized vehicles.

ACCESS: With two exceptions, triple trailer units shall not leave the Turnpike Project. The first exception is that triple trailer combinations are allowed on State Route 21 from I-80 Exit 11 (Ohio Turnpike) to a terminal located approximately 500 feet to the north in the town of Richfield. The second exception is for a segment of State Route 7 from Ohio Turnpike Exit 16 to 1 mile south. Triple trailer units shall not leave the Turnpike project. Section 5537.01, as discussed above defines “turnpike project” as: “(B) “Project” or “turnpike project” means . . . interchanges, entrance plazas, approaches, those portions of connecting public roads that serve interchanges and are determined by the commission and the director of transportation to be necessary for the safe merging of traffic between the turnpike project and those public roads, . . .”

Routes
| From | To
I-76 Ohio Turnpike | Turnpike Exit 15 | Pennsylvania.
I-80 Ohio Turnpike | Turnpike Exit 8A | Turnpike Exit 15.
I-80/90 Ohio Turnpike | Indiana | Turnpike Exit 8A.
OH-7 | Turnpike Exit 16 | Extending 1 mile south.
LEGAL CITATIONS: Same as the OH-TT2 combination.

* * * * *

STATE: PENNSYLVANIA

COMBINATION: Truck tractor and 2 trailing units

LENGTH OF THE CARGO-CARRYING UNITS: 57 feet

OPERATIONAL CONDITIONS:

WEIGHT: The maximum gross weight is 100,000 pounds.

DRIVER: The driver must have a commercial driver's license with the appropriate endorsement.

VEHICLE: A semitrailer, or the trailer of a tandem trailer combination, may not be longer than 28½ feet. A tandem combination—including the truck tractor, semitrailer and trailer—which exceeds 85 feet in length is considered a Class 9 vehicle which requires a special permit to travel on the Turnpike System. In tandem combinations, the heaviest trailer shall be towed next to the truck tractor.

PERMIT: None required except for a Class 9 vehicle.

Routes
| From | To
I-76 Pennsylvania Turnpike Mainline | Ohio | Turnpike Exit 75.
I-76/1-70 Pennsylvania Turnpike Mainline | Turnpike Exit 75 | Turnpike Exit 161.
I-76 Pennsylvania Turnpike Mainline | Turnpike Exit 161 | Turnpike Exit 326.
1-276 Pennsylvania Turnpike Mainline | Turnpike Exit 326 | I-95 Interchange.
I-95 interchange Pennsylvania Turnpike Mainline | I-95 Interchange | New Jersey.
I-476 Pennsylvania Turnpike Northeastern Extension | Turnpike Exit 20 | Turnpike Exit 131.
I-376 Pennsylvania Turnpike Beaver Valley Expressway | Turnpike Exit 15 | Turnpike Exit 31.
Pennsylvania Turnpike 66 Greensburg Bypass | Turnpike Exit 0 | Turnpike Exit 14.
Pennsylvania Turnpike 43 Mon/Fayette Expressway (I-68 to Route 43) | West Virginia | Turnpike Exit M8.
Pennsylvania Turnpike 43 Mon/Fayette Expressway (Uniontown to Brownsville) | Turnpike Exit M 15 | Turnpike Exit M28.
Pennsylvania Turnpike 43 Mon/Fayette Expressway (US-40 to PA-51) | Turnpike Exit M30 | Turnpike Exit M54.
Pennsylvania Turnpike 43 Mon/Fayette Expressway (PA-51 to I-376/Monroeville) | Turnpike Exit M54 | I-376/Monroeville.
Pennsylvania Turnpike 576 Southern Beltway (I-376 to US-22) | Turnpike Exit S1 | Turnpike Exit S6.
Pennsylvania Turnpike 576 Southern Beltway (US-22 to I-79) | Turnpike Exit S6 | I-79.
Pennsylvania Turnpike 576 Southern Beltway (I-79 to Mon/Fayette Expressway) | I-79 | Pennsylvania Turnpike 43 Mon/Fayette Expressway.

LEGAL CITATIONS: Pennsylvania Vehicle Code, 75 Pa.C.S. § 6110(a); Pennsylvania Code, 67 Pa. Code, Chapter 601.

* * * * *

[FR Doc. 2018-21341 Filed 10-1-18; 8:45 am]

BILLING CODE 4910-22-P